DEPARTMENT OF HEALTH AND HUMAN SERVICES

National Institutes of Health

National Cancer Institute; Amended Notice of Meeting

Notice is hereby given of a change in the meeting of the National Cancer Institute Special Emphasis Panel, Mechanisms of Fusion-Driven Oncogenesis in Childhood Cancers and Next Generation Chemistry Centers for Fusion Oncoproteins, March 29, 2024, 09:00 a.m. to March 29, 2024, 05:00 p.m., National Cancer Institute Shady Grove, 9609 Medical Center Drive, Room 7W260, Rockville, Maryland, 20850 which was published in the Federal Register on December 20, 2023, FR Doc 2023-27963, 88 FR 88100.

This notice is being amended to change the meeting date from March 29, 2024 to March 27, 2024. The meeting time and location will remain the same. The meeting is closed to the public.

Dated: January 16, 2024.
Melanie J. Pantoja,
Program Analyst, Office of Federal Advisory Committee Policy.

[FR Doc. 2024-01075 Filed 1-19-24; 8:45 am]

BILLING CODE 4140-01-P